DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

ABCA8 Nucleic Acids and Proteins, and Uses Thereof

Michael C. Dean et al. (NCI)

DHHS Reference No. E-030-00/0 filed 19 Oct 2001.

Licensing Contact: Catherine Joyce; 301/496-7735 ext. 258; e-mail: joycec@od.nih.gov.

This technology pertains to the identification of a novel gene in the ABC (ATP-binding cassette transporter) gene superfamily, the ABCA8 gene. The ABC proteins are involved in extra- and intracellular membrane transport of various substrates such as ions, amino acids, peptides, sugars, vitamins, or steroid hormones. At least 14 members of the ABC gene superfamily have been described as associated with human disease.

The ABCA8 gene is one of a group of several ABCA genes that is organized in a single large cluster on chromosome 17q24, in a head to tail fashion, and conserved in the mouse genome. The ABCA8 gene is believed to be involved in the reverse transport of cholesterol, as well as in the membrane transport of other lipophilic molecules such as inflammation mediating substances such as prostaglandins and prostacyclins.

The above-mentioned invention is available for licensing on an exclusive or non-exclusive basis.

Dated: July 25, 2002.
Jack Spiegel,
Director, Division of Technology, Development and Transfer, Office of Technology Transfer, National Institutes of Health.

[FR Doc. 02-19398 Filed 7-31-02; 8:45 am]

BILLING CODE 4140-01-P